BROADCASTING BOARD OF GOVERNORS

Government in the Sunshine Act Meeting Notice

TIME AND DATE: Thursday, November 14, 2019, 10:30 a.m. ET.

PLACE: Cohen Building, Room 3321, 330 Independence Ave. SW, Washington, DC 20237.

Subject: Notice of Meeting of the Broadcasting Board of Governors.

MATTERS TO BE CONSIDERED: The U.S. Agency for Global Media's (USAGM) Board of Governors (Board) will be meeting at the time and location listed above. The Board will vote on a consent agenda consisting of the minutes of its September 11, 2019 meeting and a resolution proposing Board meeting dates in 2020. The Board will receive a report from the USAGM's Chief Executive Officer and Director.

This meeting will be available for public observation via streamed webcast, both live and on-demand, on the agency's public website at www.usagm.gov. Information regarding this meeting, including any updates or adjustments to its starting time, can also be found on the agency's public website.

The public may also attend this meeting in person at the address listed above as seating capacity permits. Members of the public seeking to attend the meeting in person must register at https://usagmboardmeetingnovember2019.eventbrite.com by 12:00 p.m. (ET) on November 13. For more information, please contact USAGM Public Affairs at (202) 203-4400 or by email at pubaff@usagm.gov.

CONTACT PERSON FOR MORE INFORMATION: Persons interested in obtaining more information should contact Oanh Tran at (202) 203-4545.

Oanh Tran,
Executive Director.

[FR Doc. 2019-24627 Filed 11-7-19; 11:15 am]

BILLING CODE 8610-01-P